THE NATIONAL FOUNDATION ON THE ARTS AND THE HUMANITIES

Meetings of Humanities Panel

AGENCY: The National Endowment for the Humanities.

ACTION: Notice of meetings.

SUMMARY: Pursuant to the provisions of the Federal Advisory Committee Act (Public Law 92-463, as amended), notice is hereby given that the following meetings of the Humanities Panel will be held at the Old Post Office, 1100 Pennsylvania Avenue, NW., Washington, DC 20506.

FOR FURTHER INFORMATION CONTACT: Laura S. Nelson, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4) and (6) of section 552b of Title 5, United States Code.

1. Date: August 1, 2001.

Time: 8:30 a.m. to 5:00 p.m.

Room: 315.

Program: The meeting will review applications for American and Latin American Literature and Linguistics, submitted to the Division of Research Programs at the May 1, 2001 deadline.

2. Date: August 2, 2001.

Time: 8:30 a.m. to 5:00 p.m.

Room: 315.

Program: This meeting will review applications for Romance Languages and Literatures, submitted to the Division of Research Programs at the May 1, 2001 deadline.

3. Date: August 3, 2001.

Time: 8:30 a.m. to 5:00 p.m.

Room: 315.

Program: This meeting will review applications for Film and Theater, submitted to the Division of Research Programs at the May 1, 2001 deadline.

4. Date: August 6, 2001.

Time: 8:30 a.m. to 5:00 p.m.

Room: 315.

Program: This meeting will review applications for Anthropology and Folklore, submitted to the Division of Research Programs at the May 1, 2001 deadline.

5. Date: August 7, 2001.

Time: 8:30 a.m. to 5:00 p.m.

Room: 315.

Program: This meeting will review applications for History of Art and Architecture I, submitted to the Division of Research Programs at the May 1, 2001 deadline.

6. Date: August 8, 2001.

Time: 8:30 a.m. to 5:00 p.m.

Room: 315.

Program: This meeting will review applications for Medieval Studies, submitted to the Division of Research Programs at the May 1, 2001 deadline.

7. Date: August 9, 2001.

Time: 8:30 a.m. to 5:00 p.m.

Room: 315.

Program: This meeting will review applications for African, Near Eastern, and Asian Studies, submitted to the Division of Research Programs at the May 1, 2001 deadline.

8. Date: August 9, 2001.

Time: 8:30 a.m. to 5:00 p.m.

Room: 415.

Program: This meeting will review applications for Classical Studies, submitted to the Division of Research Programs at the May 1, 2001 deadline.

9. Date: August 10, 2001.

Time: 8:30 a.m. to 5:00 p.m.

Room: 415.

Program: This meeting will review applications for Sociology, Psychology, and Education, submitted to the Division of Research Programs at the May 1, 2001 deadline.

10. Date: August 10, 2001.

Time: 8:30 a.m. to 5:00 p.m.

Room: 315.

Program: This meeting will review applications for American Studies, submitted to the Division of Research Programs at the May 1, 2001 deadline.

11. Date: August 13, 2001.

Time: 8:30 a.m. to 5:00 p.m.

Room: 315.

Program: This meeting will review applications for Germanic and Slavic Languages and Literatures, Comparative Literature, Literary Criticism and Linguistics, submitted to the Division of Research Programs at the May 1, 2001 deadline.

12. Date: August 14, 2001.

Time: 8:30 a.m. to 5:00 p.m.

Room: 315.

Program: This meeting will review applications for American Studies, Rhetoric, Communication and Media, submitted to the Division of Research Programs at the May 1, 2001 deadline.

13. Date: August 16, 2001.

Time: 8:30 a.m. to 5:00 p.m.

Room: 315.

Program: This meeting will review applications for History of Art and Architecture II, submitted to the Division of Research Programs at the May 1, 2001 deadline.

14. Date: August 17, 2001.

Time: 8:30 a.m. to 5:00 p.m.

Room: 315.

Program: This meeting will review applications for European History, submitted to the Division of Research Programs at the May 1, 2001 deadline.

Laura S. Nelson,
Advisory Committee Management Officer.

[FR Doc. 01-18708 Filed 7-26-01; 8:45 am]

BILLING CODE 7536-01-M